CHEMICAL SAFETY AND HAZARD INVESTIGATION BOARD

Sunshine Act Meeting

TIME AND DATE: July 22, 2015, 9:30 a.m.-1 p.m. EDT.

PLACE: U.S. Chemical Safety Board, 2175 K St. NW., 4th Floor Conference Room, Washington, DC 20037.

STATUS: Open to the public.

MATTERS TO BE CONSIDERED: The Chemical Safety and Hazard Investigation Board (CSB) will convene a public meeting on July 22, 2015, starting at 9:30 a.m. at the CSB's headquarters, located at 2175 K St. NW., 4th Floor Conference Room, Washington, DC 20037. The meeting will focus on the status of several current CSB investigations. The Board will discuss the final report, recommendations, and public comments received on the report of the Caribbean Petroleum incident. The Board may then vote on the Caribbean Petroleum report. The Board will then hear a staff presentation and receive public comments on a recommendation to the BP Global Executive Board of Directors to implement an incident reporting program. In 2012, a CSB staff evaluation of BP's actions taken in response to that recommendation was calendared for discussion in a public setting. The recommendation was issued as part of the investigation report of the BP America Refinery explosion in Texas City, Texas, in March 2005. The Board will also hear staff reports on recommendations related to California's Process Safety Management rules and laboratory safety guidelines from the American Chemical Society. The Board will hear public comments on these recommendations, current investigations, and other matters of concern to the agency in person or via telephone. Please read “Additional Information” for phone participation instructions.

Additional Information

The meeting is free and open to the public. If you require a translator or interpreter, please notify the individual listed below as the “Contact Person for Further Information,” at least three business days prior to the meeting.

If you are unable to attend the meeting in person, you may participate via phone. Please dial the phone number five minutes prior to the start of the conference call and provide the confirmation number. The phone number is: 1-877-691-2551 (U.S. Toll Free), or 1-630-691-2747 (U.S. Toll), with confirmation number: 40238148.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

The time provided for public statements will depend upon the number of people who wish to speak. Speakers should assume that their presentations will be limited to five minutes or less, but commenters may submit written statements for the record.

Contact Person for Further Information

Hillary J. Cohen, Communications Manager, hillary.cohen@csb.gov or (202) 446-8094. Further information about this public meeting can be found on the CSB Web site at: www.csb.gov.

Dated: July 13, 2015.
Rick Engler,
Board Member.

[FR Doc. 2015-17581 Filed 7-14-15; 4:15 pm]

BILLING CODE 6350-01-P